Title 3—

The President

Proclamation 9185 of October 3, 2014

Fire Prevention Week, 2014

By the President of the United States of America

A Proclamation

Fires can take lives, devastate communities, and destroy our homes and businesses. They pose a threat to Americans across our Nation, and they cost us billions of dollars each year. As we mark Fire Prevention Week, we emphasize the importance of taking steps to prevent fires, and we recognize the selflessness of those who answer the call to fight these blazes, placing themselves in danger to help others.

All Americans can protect themselves by taking precautions to guard against fires. This week's theme, “Smoke Alarms Save Lives: Test Yours Every Month,” reminds us of the importance of installing and maintaining smoke alarms in the places we live and work. Powerful and unpredictable, fire spreads rapidly and widely. That is why I encourage every American to develop and practice fire evacuation plans that will allow for swift exits from regularly visited places. It is our responsibility to teach our children about fire prevention and do everything we can to protect our loved ones during these emergencies. To learn more about fire safety, visit www.Ready.gov.

This year, our Nation has suffered tragic losses as wildfires ravage States across our country. As wildfires increase in frequency and intensity in a changing climate, fire prevention and planning only become more urgent. My Administration continues to take action to increase our Nation's preparedness and resiliency, and every person can do his or her part. Americans who live near woodlands should clear flammable vegetation away from homes and buildings, and everyone can be ready by making an emergency kit and discussing evacuation routes and emergency plans with their families.

We owe a great debt to our brave first responders and firefighters who run toward the scene of a disaster to fight fires. They are heroes who demonstrate courage, determination, and professionalism every day as they battle flames and smoke and teach their neighbors how to protect themselves. During Fire Prevention Week, we recognize our duty to be vigilant and take action to avert fires, and we remember the sacrifices of those who gave their lives so others might live.

NOW, THEREFORE, I, BARACK OBAMA, President of the United States of America, by virtue of the authority vested in me by the Constitution and the laws of the United States do hereby proclaim October 5 through October 11, 2014, as Fire Prevention Week. On Sunday, October 12, 2014, in accordance with Public Law 107-51, the flag of the United States will be flown at half-staff at all Federal office buildings in honor of the National Fallen Firefighters Memorial Service. I call on all Americans to participate in this observance with appropriate programs and activities and by renewing their efforts to prevent fires and their tragic consequences.

IN WITNESS WHEREOF, I have hereunto set my hand this third day of October, in the year of our Lord two thousand fourteen, and of the Independence of the United States of America the two hundred and thirty-ninth.

[FR Doc. 2014-24212

Filed 10-7-14; 11:15 am]

Billing code 3295-F5